NUCLEAR REGULATORY COMMISSION

[Docket Nos.: 50-280 and 50-281; 50-338 and 50-339; NRC-2012-0241]

Virginia Electric and Power Company, Surry Power Station Units 1 and 2 and North Anna Power Station Units 1 and 2, Notice of Withdrawal of Application for Amendment to Facility Operating License

AGENCY: Nuclear Regulatory Commission.

ACTION: License amendment application; withdrawal.

SUMMARY: The U.S. Nuclear Regulatory Commission (NRC or the Commission) has granted the request of Virginia Electric and Power Company (the licensee) to withdraw its September 29, 2012, application for proposed amendment to Facility Operating License Nos. DPR-32 and DPR-37, NPF-4 and NPF-7 for Surry Power Station, Units 1 and 2, Surry County, Virginia and North Anna Power Station, Units 1 and 2, Mineral, Virginia.

ADDRESSES: Please refer to Docket ID NRC-2012-0241 when contacting the NRC about the availability of information regarding this document. You may access information related to this document, which the NRC possesses and are publicly available, using any of the following methods:

• Federal Rulemaking Web site: Go to http://www.regulations.gov and search for Docket ID NRC-2012-0241. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Dr. V. Sreenivas, Project Manager, Division of Operating Reactor Licensing, Office of Nuclear Reactor Regulation, U.S. Nuclear Regulatory Commission, Washington, DC 20555-0001; telephone: 301-415-2597; email: V.Sreenivas@nrc.gov.

SUPPLEMENTARY INFORMATION: The proposed amendment would have revised the facility technical specifications pertaining to change the Emergency Action Levels (EALs) for North Anna Power Station (NAPS) and Surry Power Station (SPS). Several changes are proposed to incorporate lessons learned from the safety related breaker fire that occurred at NAPS on April 22, 2009 (Reference NRC Event Notification Report 45013). The proposed changes are briefly summarized as follows: (1) revise the definition of “Affecting Safe Shutdown” in the EAL Technical Basis Documents to specifically describe how this applies to NAPS and SPS; (2) revise applicable Hazards EALs to incorporate the intent of the revised definition for “Affecting Safe Shutdown”; in addition, the main dam is added to the Initiating Condition (IC) for HA1 for NAPS and the low level intake structure is added to the IC for HA1 for SPS; (3) changing the IC for HA2 and HA3 to replace “a safe shutdown area” with “any Table H-1 Area”; and (4) revise applicable System Malfunctions EAL to include a 15-minute threshold for RCS leaks.

The Commission had previously issued a Notice of Consideration of Issuance of Amendment published in the Federal Register on February 21, 2012 (77 FR 10001). However, by letter dated September 27, 2012, the licensee withdrew the proposed change.

For further details with respect to this action, see the application for amendment dated October 6, 2011, and the licensee's letter dated September 27, 2012, which withdrew the application for license amendment. Documents may be examined, and/or copied for a fee, at the NRC's Public Document Room (PDR), located at One White Flint North, Room O1-F21, 11555 Rockville Pike (first floor), Rockville, Maryland 20852. Publicly available documents created or received at the NRC are available online in the NRC Library at http://www.nrc.gov/reading-rm/adams.html. Persons who do not have access to ADAMS or who encounter problems in accessing the documents located in ADAMS should contact the NRC's PDR reference staff by telephone at 1-800-397-4209, or 301-415-4737 or by email to pdr.resource@nrc.gov.

Dated at Rockville, Maryland, this 10th day of October, 2012.
For the Nuclear Regulatory Commission.
V. Sreenivas,
Project Manager, Plant Licensing Branch II-1, Division of Operating Reactor Licensing, Office of Nuclear Reactor Regulation.

[FR Doc. 2012-25379 Filed 10-15-12; 8:45 am]

BILLING CODE 7590-01-P